NUCLEAR REGULATORY COMMISSION

[Docket Nos. EA-12-050, EA-12-051; ASLBP No. 12-918-01-EA-BD01]

Fukushima-Related Orders Modifying Licenses; Establishment of Atomic Safety and Licensing Board

Pursuant to delegation by the Commission dated December 29, 1972, published in the Federal Register, 37 FR 28,710 (1972), and the Commission's regulations, see, e.g., 10 CFR 2.104, 2.105, 2.300, 2.309, 2.313, 2.318, and 2.321, notice is hereby given that an Atomic Safety and Licensing Board (Board) is being established to preside over this proceeding, which involves the following consolidated cases:

All Operating Boiling Water Reactor Licensees With Mark I and Mark II Containments: Order Modifying Licenses With Regard to Reliable Hardened Containment Vents (Effective Immediately) Docket No. Ea-12-050

All Power Reactor Licensees and Holders of Construction Permits in Active or Deferred Status: Order Modifying Licenses With Regard To Reliable Spent Fuel Pool Instrumentation (Effective Immediately) Docket No. Ea-12-051

This proceeding concerns requests for hearing submitted by Pilgrim Watch (April 2, 2012) and requests for hearing submitted by co-petitioner Beyond Nuclear (April 3, 2012) challenging: (1) an immediately effective order issued to all operating boiling water reactor licensees with Mark I and Mark II Containments directing that they modify their licenses with regard to reliable hardened containment vents, published in the Federal Register on March 19, 2012 (77 FR 16,098); and (2) an immediately effective order issued to all power reactor licensees and holders of construction permits in active or deferred status directing that they modify their licenses with regard to reliable spent fuel pool instrumentation, published in the Federal Register on March 19, 2012 (77 FR 16,082).

The Board is comprised of the following administrative judges:

Alan S. Rosenthal, Chair, Atomic Safety and Licensing Board Panel, U.S. Nuclear Regulatory Commission, Washington, DC 20555-0001

E. Roy Hawkens, Atomic Safety and Licensing Board Panel, U.S. Nuclear Regulatory Commission, Washington, DC 20555-0001

Dr. Anthony J. Baratta, Atomic Safety and Licensing Board Panel, U.S. Nuclear Regulatory Commission, Washington, DC 20555-0001

All correspondence, documents, and other materials shall be filed in accordance with the NRC E-filing rule, which the NRC promulgated in August 2007 (72 FR 49,139).

Issued at Rockville, Maryland, this 18th day of April 2012.
E. Roy Hawkens,
Chief Administrative Judge, Atomic Safety and Licensing Board Panel.

[FR Doc. 2012-9801 Filed 4-23-12; 8:45 am]

BILLING CODE 7590-01-P